DEPARTMENT OF COMMERCE

Bureau of Industry and Security

15 CFR Part 744

[Docket No. 180718671-8671-01]

RIN 0694-AH57

Addition of Certain Entities to the Entity List, Revision of Entries on the Entity List and Removal of Certain Entities From the Entity List

Correction

In rule document 2018-18766 beginning on page 44821 in the issue of Tuesday, September 4, 2018, make the following correction:

1. On page 44824, in the third column, amendatory instruction number 2e is corrected to read as follows:

“2. * * *

e. Under Russia,

i. By removing the entity “Joint Stock Company Mikron”;

ii. By adding in alphabetical order two entities “Joint Stock Company (JSC) NIIME” and “PJSC Mikron”;

2. On page 44825, in the table, under the country heading for Hong Kong, the Joinus Freight Systems entry should read as follows:

* * * * *

Joinus Freight Systems (H.K.) Limited, a.k.a., the following two aliases: | For all items subject to the EAR. (See § 744.11 of the EAR) | Presumption of denial | 81 FR 14958, 3/21/16. 83 FR [Insert FR Page Number] 9/4/2018.
-JFS Global Logistics; and
-Joinus Freight Systems Global Logistics Limited
Unit 07-07, 25F, Tower B, Regent Centre, 63 Wo Yi Hop Road, Kwai Chung, N.T. Hong Kong and Units 801-803 and 805, Park Sun Building, No. 97-107 Wo Yi Hop Road, Kwai Chung, Hong Kong

* * * * *

3. On page 44826, in the table, under the country heading for Russia, the PJSC Mikron entry should read as follows:

* * * * *

PJSC Mikron, 1st Zapadniy Proezd 12/1, Zelenograd, Russia, 124460 | For all items subject to the EAR. (See § 744.11 of the EAR) | Presumption of denial | 81 FR 61601, 9/7/16. 83 FR [Insert FR Page Number] 9/4/2018.

* * * * *

[FR Doc. C2-2018-18766 Filed 9-11-18; 8:45 am]

BILLING CODE 1301-00-D